DEPARTMENT OF THE TREASURY

Internal Revenue Service

26 CFR Parts 1 and 602

[TD 9101]

RIN 1545-BC79

Information Reporting Relating to Taxable Stock Transactions; Correction

AGENCY: Internal Revenue Service (IRS), Treasury.

ACTION: Correction to temporary regulations.

SUMMARY: This document contains corrections to temporary regulations that were published in the Federal Register on Tuesday, December 30, 2003 (68 FR 75119) requiring information reporting by a corporation if control of the corporation is acquired or if the corporation has a recapitalization or other substantial change in capital structure.

DATES: This correction is effective December 30, 2003.

FOR FURTHER INFORMATION CONTACT: Nancy Rose, (202) 622-4910 (not a toll-free number).

SUPPLEMENTARY INFORMATION:

Background

The temporary regulations (TD 9101) that are the subject of these corrections are under sections 6043(c) and 6045 of the Internal Revenue Code.

Need for Correction

As published, the temporary regulations (TD 9101) contain errors that may prove to be misleading and are in need of clarification.

Correction of Publication

Accordingly, the publication of the temporary regulations (TD 9101), that were the subject of FR Doc. 03-31361, is corrected as follows:

1. On page 75119, column 3, in the heading, the language, is corrected to read “26 CFR Parts 1 and 602”.

2. On page 75122, column 1, in the preamble, the “List of Subjects” is corrected to read as follows:

List of Subjects

26 CFR Part 1

Income taxes, Reporting and recordkeeping requirements.

26 CFR Part 602

Reporting and recordkeeping requirements.

PART 1—[AMENDED]

3. On page 75122, column 2, in the words of issuance, the language, “Accordingly, 26 CFR part 1 is amended” is corrected to read “Accordingly, 26 CFR parts 1 and 602 are amended”.

§ 1.6045-3T [Corrected]

4. On page 75125, column 3, § 1.6045-3T(e), lines 1 and 2, the language, “(e) Furnishing of forms to actual owners. The Form 1099-B prepared for” is corrected to read “(e) Furnishing of forms to customers. The Form 1099-B prepared for”.

5. On page 75126, column 1, the heading for Part 602 and amendments 4. and 5. are added following § 1.6045-3T to read as follows:

PART 602—OMB CONTROL NUMBERS UNDER THE PAPERWORK REDUCTION ACT

Par. 4. The authority citation for part 602 continues to read in part as follows:

Authority: 26 U.S.C. 7805 * * *

Par. 5. In § 602.101, paragraph (b) is amended by removing the following entries in the table as follows:

§ 602.101 OMB Control numbers

* * * * *

(b) * * *

CFR part or section where identified and described | Current OMB control No.
* * * * *
1.6043-4T | 1545-1812
* * * * *
1.6045-3T | 1545-1812
* * * * *

Cynthia E. Grigsby,
Acting Chief, Publications and Regulations Branch, Legal Processing Division, Associate Chief Counsel (Procedure and Administration).

[FR Doc. 04-3262 Filed 2-13-04; 8:45 am]

BILLING CODE 4830-01-P